DEPARTMENT OF JUSTICE

[OMB Number 1125-0004]

Agency Information Collection Activities: Proposed Collection; Comments Requested: Alien's Change of Address Forms: 33/BIA Board of Immigration Appeals and 33/IC Immigration Court

ACTION: 60-Day Notice of Information Collection Under Review.

The Department of Justice (DOJ), Executive Office for Immigration Review (EOIR), will be submitting the following information collection request to the Office of Management and Budget (OMB) for review and approval in accordance with the Paperwork Reduction Act of 1995. The proposed information collection is published to obtain comments from the public and affected agencies. Comments are encouraged and will be accepted for “sixty days” until December 19, 2011. This process is conducted in accordance with 5 CFR 1320.10.

Written comments concerning this information collection should be sent to the Office of Information and Regulatory Affairs, Office of Management and Budget, Attn: DOJ Desk Officer. The best way to ensure your comments are received is to e-mail them to oira_submission@omb.eop.gov or fax them to 202-395-7285. All comments should reference the 8 digit OMB number for the collection or the title of the collection. If you have questions concerning the collection, please call Robin M. Stutman, General Counsel, Executive Office for Immigration Review, U.S. Department of Justice, Suite 2600, 5107 Leesburg Pike, Falls Church, Virginia 22041; telephone: (703) 305-0470, or the DOJ Desk Officer at 202-395-3176.

Written comments and suggestions from the public and affected agencies concerning the proposed collection of information are encouraged. Your comments should address one or more of the following four points:

—Evaluate whether the collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of Information Collection: Revision of a currently approved collection.

(2) Title of the Form/Collection: Alien's Change of Address Forms: 33/BIA Board of Immigration Appeals and 33/IC Immigration Court.

(3) Agency form number, if any, and the applicable component of the Department of Justice sponsoring the collection: Form Numbers: Form EOIR 33/BIA and 33/IC. Executive Office for Immigration Review, United States Department of Justice.

(4) Affected public who will be asked or required to respond, as well as a brief abstract: Primary: An individual appearing before the Immigration Court or the Board of Immigration Appeals. Other: None. Abstract: The information on the change of address form is used by the Immigration Courts and the Board of Immigration Appeals to determine where to send notices of the next administrative action or of any decisions in an alien's case.

(5) An estimate of the total number of respondents and the amount of time estimated for an average respondent to respond: It is estimated that 15,000 respondents will complete the form once annually with an average of 5 minutes per response.

(6) An estimate of the total public burden (in hours) associated with the collection: There are an estimated 1,245 total burden hours associated with this collection annually.

If additional information is required contact: Jerri Murray, Department Clearance Officer, United States Department of Justice, Justice Management Division, Policy and Planning Staff, Two Constitution Square, 145 N Street, NE., Room 2E-808, Washington, DC 20530.

Jerri Murray,
Department Clearance Officer, PRA, United States Department of Justice.

[FR Doc. 2011-26873 Filed 10-17-11; 8:45 am]

BILLING CODE 4410-30-P